DEPARTMENT OF ENERGY

Office of Fossil Energy

[FE Docket No. 03-08-NG, 03-09-NG, 03-10-NG, 01-52-N., et. al]

Transalta Chihuahua S.A. DE C.V., Meadwestvaco Corporation, Progas U.S.A. Inc., Boundary Gas, Inc. El Paso Production Oil & Gas Company, Usgen New England, Inc., El Paso Merchant Energy, L.P., Sempra Energy Trading Corp.; Orders Granting and Vacating Authority to Import and Export Natural Gas, Including Liquefied Natural Gas

AGENCY: Office of Fossil Energy, DOE.

ACTION: Notice of orders.

SUMMARY: The Office of Fossil Energy (FE) of the Department of Energy gives notice that during March 2003, it issued Orders granting and vacating authority to import and export natural gas, including liquefied natural gas. These Orders are summarized in the attached appendix and may be found on the FE web site at http://www.fe.doe.gov (select gas regulation), or on the electronic bulletin board at (202) 586-7853. They are also available for inspection and copying in the Office of Natural Gas & Petroleum Import & Export Activities, Docket Room 3E-033, Forrestal Building, 1000 Independence Avenue, SW., Washington, DC 20585, (202) 586-9478. The Docket Room is open between the hours of 8 a.m. and 4:30 p.m., Monday through Friday, except Federal holidays.

Issued in Washington, DC, on April 8th, 2003.
Clifford P. Tomaszewski,
Manager, Natural Gas Regulation, Office of Natural Gas & Petroleum Import & Export Activities, Office of Fossil Energy.

Appendix

Orders Granting Import/Export Authorizations
Order No. | Date issued | Importer/Exporter Fe Docket No. | Import volume | Export volume | Comments
1855 | 3-03-03 | TransAlta Chichuahua S.A. de C.V. 03-08-NG |  | 36.135 Bcf | Export natural gas to Mexico, beginning on March 4, 2003 and extending through March 3, 2005.
1856 | 3-3-03 | MeadWestvaco Corporation, 03-09-NG | 120 Bcf |  | Import natural gas from Canada, beginning on March 10, 2003, and extending through March 9, 2005.
1857 | 3-17-03 | ProGas U.S.A., Inc., 03-10-NG | 800 Bcf | 200 Bcf | Import and export natural gas from and to Canada, beginning on April 1, 2003, and extending through March 31, 2005.
1714-A | 3-19-03 | Boundary Gas, Inc., 01-52-NG |  |  | Vacate blanket import and export authority.
1858 | 3-20-03 | El Paso Production Oil & Gas Company, 03-13-NG | 155 Bcf |  | Import and export up to a combined total of natural gas from and to Canada, beginning on April 1, 2003, and extending through March 31, 2005.
1859 | 3-20-03 | USGen New England, Inc., 03-12-NG | 47.5 Bcf |  | Import and export up to a combined total of natural gas from and to Canada, beginning on March 20, 2003, and extending through March 19, 2005.
1780-A | 3-21-03 | El Paso Merchant Energy, L.P., 2-26-LNG |  |  | Vacate long-term import authority.
1860 | 3-27-03 | Sempra Energy Trading Corp., 03-11-NG | 300 Bcf |  | Import and export up to a combined total of natural gas from and to Canada, and import and export up to a combined total of natural gas from and to Mexico, beginning on June 16, 2003, and extending through June 15, 2005.
|  |  | 300 Bcf

[FR Doc. 03-10020 Filed 4-22-03; 8:45 am]

BILLING CODE 6450-01-P